ENVIRONMENTAL PROTECTION AGENCY

[EPA-HQ-OAR-2004-0501; FRL-9989-10-OEI]

Information Collection Request Submitted to OMB for Review and Approval; Comment Request; Green Power Partnership and Combined Heat and Power Partnership (Renewal)

AGENCY: Environmental Protection Agency (EPA).

ACTION: Notice.

SUMMARY: The Environmental Protection Agency (EPA) has submitted an information collection request (ICR), Green Power Partnership and Combined Heat and Power Partnership (EPA ICR Number 2173.07, OMB Control Number 2060-0578) to the Office of Management and Budget (OMB) for review and approval in accordance with the Paperwork Reduction Act. This is a proposed extension of the ICR, which is currently approved through March 31, 2019. Public comments were previously requested via the Federal Register on September 14, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 22, 2019.

ADDRESSES: Submit your comments, referencing Docket ID Number Docket ID No. EPA-HQ -OAR-2004-0501, to (1) EPA online using www.regulations.gov (our preferred method), by email to a-and-r-docket@epamail.epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Christopher Kent, Climate Protection Partnerships Division, Office of Atmospheric Programs, MC 6202A Environmental Protection Agency, 1200 Pennsylvania Ave. NW, Washington, DC 20460; telephone number: 202-343-9046; fax number: 202-343-2208; email address: kent.christopher@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In 2002, EPA's Energy Supply and Industry Branch (ESIB) launched two partnership programs with industry and other stakeholders: The Green Power Partnership (GPP) and the Combined Heat and Power Partnership (CHPP). These voluntary partnership programs, along with others in the ESIB, encourage organizations to invest in clean, efficient energy technologies, including renewable energy and combined heat and power. To continue to be successful, it is critical that EPA collect information from these program stakeholders to ensure these organizations are meeting their clean energy goals and to assure the credibility of these voluntary non-regulatory programs.

EPA has developed this ICR to obtain authorization to collect information from organizations participating in the GPP and CHPP, and other ESIB voluntary programs. Organizations that join these programs voluntarily agree to the following respective actions: (1) Designating a Green Power or CHP liaison and filling out a Partnership Agreement or Letter of Intent (LOI) respectively, (2) for the GPP, reporting to EPA, on an annual basis, their progress toward their green power commitment via a 3-page reporting form; (3) for the CHP Partnership, reporting to EPA information on their existing CHP projects, new project development, and other CHP-related activities via a one-page reporting form (for projects) or via an informal email or phone call (for other CHP-related activities). In addition to these actions, organizations may voluntarily apply for recognition to the programs' established annual recognition events, which require submitting additional information. EPA uses the data obtained from its Partners to assess the success of these programs in achieving their national energy and greenhouse gas (GHG) reduction goals. Partners are organizational entities that have volunteered to participate in either Partnership program.

Form numbers: EPA-430-K-013, EPA-430-F-05-034; EPA-5900-353.

Respondents/affected entities: Company, institutional, and public-sector organizations that voluntarily participate in the EPA's Green Power Partnership (GPP) or Combined Heat and Power Partnership (CHPP). These include both service and goods providing industries, educational institutions and non-governmental organizations, commercial and industrial organizations, and local, state, or federal government agencies.

Respondent's obligation to respond: Voluntary.

Estimated number of respondents: 6,871 (total).

Frequency of response: Annually, on occasion, one time.

Total estimated burden: 6,598 hours (per year). Burden is defined at 5 CFR 1320.03(b).

Total estimated cost: $731,382 (per year), which includes no annualized capital or operation & maintenance costs.

Changes in the estimates: There is minimal decrease in hours in the total estimated respondent burden compared with the ICR currently approved by OMB. Since the last ICR renewal, both the GPP and CHPP have introduced program efficiencies to reduce program burden and simplified collection forms into pre-populated spreadsheets or documents. As a result of these changes, the average number of hours per Partner has decreased from 3.2 hours to 2.87 hours, even though the total hour burden for Partners increased due to an increase in the number of Partners.

Courtney Kerwin,
Director, Regulatory Support Division.

[FR Doc. 2019-05514 Filed 3-21-19; 8:45 am]

BILLING CODE 6560-50-P